DEPARTMENT OF THE INTERIOR

Minerals Management Service

Outer Continental Shelf (OCS), Gulf of Mexico (GOM) Region, Proposed Eastern GOM Sale 181

AGENCY: Minerals Management Service (MMS), Interior.

ACTION: Notice of Availability of the Draft Environmental Impact Statement (EIS) and Public Hearings on Proposed Eastern GOM Sale 181.

SUMMARY: The MMS has prepared a draft EIS on a proposed OCS oil and gas lease sale in the Eastern GOM. This proposed sale is the only Eastern GOM sale scheduled during the current 5-Year Oil and Gas Leasing Program and the first proposed sale in the Eastern GOM since 1988.

You may obtain single copies of the draft EIS from the MMS, Gulf of Mexico OCS Region, Attention: Public Information Office (MS-5034), 1201 Elmwood Park Boulevard, Room 114, New Orleans, Louisiana 70123-2394, or by calling 1-800-200-GULF.

You may look at copies of the draft EIS in the following libraries:

Louisiana

Calcasieu Parish Library, 327 Broad Street, Lake Charles;

Cameron Parish Library, Marshall Street, Cameron;

Grand Isle Branch Library, Highway 1, Grand Isle;

Iberville Parish Library, 24605 J. Gerald Berret Boulevard, Plaquemine;

Jefferson Parish Regional Branch Library, 4747 West Napoleon Avenue, Metairie;

Jefferson Parish West Bank Outreach Branch Library, 2751 Manhattan Boulevard, Harvey;

Lafayette Public Library, 301 W. Congress Street, Lafayette;

Lafitte Branch Library, Route 1, Box 2, Lafitte;

Lafourche Parish Library, 303 West 5th Street, Thibodaux;

Louisiana State University Library, 760 Riverside Road, Baton Rouge;

Louisiana Tech University, Prescott Memorial Library, Everet Street, Ruston;

Loyola University, Government Documents Library, 6363 St. Charles Avenue, New Orleans;

LUMCON, Library, Star Route 541, Chauvin;

McNeese State University, Luther E. Frazar Memorial Library, Ryan Street, Lake Charles;

New Orleans Public Library, 219 Loyola Avenue, New Orleans;

Nicholls State University, Nicholls State Library, Leighton Drive, Thibodaux;

Plaquemines Parish Library, 203 Highway 11, South, Buras;

St. Bernard Parish Library, 1125 East Street, Bernard Highway, Chalmette;

St. Charles Parish Library, 105 Lakewood Drive, Luling;

St. John The Baptist Parish Library, 1334 West Airline Highway, LaPlace;

St. Mary Parish Library, 206 Iberia Street, Franklin;

St. Tammany Parish Library, Covington Branch, 310 West 21st Street, Covington;

St. Tammany Parish Library, Slidell Branch, 555 Robert Boulevard, Slidell;

Terrebonne Parish Library, 424 Roussell Street, Houma;

Tulane University, Howard Tilton Memorial Library, 7001 Freret Street, New Orleans;

University of New Orleans Library, Lakeshore Drive, New Orleans;

University of Southwestern Louisiana, Dupre Library, 302 East St. Mary Boulevard, Lafayette;

Vermilion Parish Library, Abbeville Branch, 200 North Street, Abbeville;

Mississippi

Eudora Welty Library, 300 North State Street, Jackson;

Gulf Coast Research Laboratory, Gunter Library, 703 East Beach Drive, Ocean Springs;

Hancock County Library System, 312 Highway 90, Bay St. Louis;

Harrison County Library, 14th and 21st Avenues, Gulfport;

Jackson George Regional Library System, 3214 Pascagoula Street, Pascagoula;

Alabama

Auburn University at Montgomery Library, 7300 University Drive, Montgomery;

Dauphin Island Sea Lab, Marine Environmental Science Consortium, Library, Bienville Boulevard, Dauphin Island;

Gulf Shores Public Library, Municipal Complex, Route 3, Gulf Shores;

Mobile Public Library, 701 Government Street, Mobile;

Montgomery Public Library, 445 South Lawrence Street, Montgomery;

Thomas B. Norton Public Library, 221 West 19th Avenue, Gulf Shores;

University of South Alabama, University Boulevard, Mobile;

Florida

Bay County Public Library, 25 West Government Street, Panama City;

Charlotte-Glades Regional Library System, 18400 Murdock Circle, Port Charlotte;

Collier County Public Library, 650 Central Avenue, Naples;

Environmental Library, Sarasota County, 7112 Curtis Avenue, Sarasota;

Florida A & M University, Coleman Memorial Library, Martin Luther King Boulevard, Tallahassee;

Florida Northwest Regional Library System, 25 West Government Street, Panama City;

Florida State University, Strozier Library, Call Street and Copeland Avenue, Tallahassee;

Fort Walton Beach Public Library, 105 Miracle Strip Parkway, Fort Walton Beach;

Leon County Public Library, 200 West Park Avenue, Tallahassee;

Marathon Public Library, 3152 Overseas Highway, Marathon;

Monroe County Public Library, 700 Fleming Street, Key West;

Port Charlotte Public Library, 2280 Aaron Street, Port Charlotte;

Selby Public Library, 1001 Boulevard of the Arts, Sarasota;

St. Petersburg Public Library, 3745 Avenue North, St. Petersburg;

Tampa-Hillsborough County Library, Documents Division, 900 North Ashley Drive, Tampa;

University of Florida Library, University Avenue, Gainesville;

University of Florida, Holland Law Library, Southwest 25th Street and 2nd Avenue, Gainesville;

University of West Florida Library, 1100 University Parkway, Pensacola;

West Florida Regional Library, 200 West Gregory Street, Pensacola.

There will be four public hearings held to receive comments on the draft EIS. The hearings will provide us with information that will help in the evaluation of the potential effects of the proposed lease sale.

January 8, 2001, 2 p.m. to 4 p.m., Minerals Management Service, Gulf of Mexico Region,1201 Elmwood Park Boulevard, New Orleans, Louisiana;

January 9, 2001, 6 p.m. to 9 p.m., New World Landing, 600 South Palafox, Pensacola, Florida;

January 10, 2001, 1 p.m. to 4 p.m. and 6 p.m. to 9 p.m., Tallahassee-Leon County Civic Center, Tallahassee, Florida; and

January 11, 2001, 6 p.m. to 9 p.m., Adams Mark Hotel, 64 South Water Street, Mobile, Alabama.

If you wish to testify at a hearing, you may register beginning 1 hour prior to the meeting. Speakers will be limited to 10 minutes. Each hearing will recess when all speakers have had an opportunity to testify. If there are no additional speakers, we will adjourn the hearing immediately after the recess. Written statements submitted at a hearing will be considered part of the hearing record. If you are unable to attend the hearing, you may submit written statements until January 23, 2001. Send written statements to the Regional Director, Gulf of Mexico OCS Region, MMS, 1201 Elmwood Park Boulevard, MS-5410, New Orleans, Louisiana 70123-2394. All comments are due by January 23, 2001.

Our practice is to make comments, including names and home addresses of respondents, available for public review during regular business hours. Individual respondents may request that we withhold their home address from the record, which we will honor to the extent allowable by law. There also may be circumstances in which we would withhold from the record a respondent's identity, as allowable by law. If you wish to withhold your name and/or address, you must state this prominently at the beginning of your comment. However, we will not consider anonymous comments. We will make all submissions from organizations or businesses, and from individuals identifying themselves as representatives or officials of organizations or businesses, available for public inspection in their entirety.

Dated: November 9, 2000.
Carolita U. Kallaur,
Associate Director for Offshore Minerals Management.

[FR Doc. 00-30925 Filed 12-4-00; 8:45 am]

BILLING CODE 4310-MR-P